ENVIRONMENTAL PROTECTION AGENCY

[ER-FRL-8996-8]

Environmental Impacts Statements; Notice of Availability

Responsible Agency: Office of Federal Activities, General Information (202) 564-1399 or http://www.epa.gov/compliance/nepa/.

Weekly Receipt of Environmental Impact Statements

Filed 04/25/2011 through 04/29/2011

Pursuant to 40 CFR 1506.9

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110133, Final EIS, NPS, FL, Programmatic—Coral Reef Restoration Plan, Implementation, Biscayne National Park, Homestead, FL, Wait Period Ends: 06/06/2011, Contact: Mark Lewis 305-230-1144.

EIS No. 20110134, Final Supplement, USFS, CA, Gemmill Thin Project, Updated Information on Four Alternatives, Chanchellula Late-Successional Reserve, Shasta-Trinity National Forest, Trinity County, CA, Review Period Ends: 06/06/2011, Contact: Joshua Wilson 530-226-2422.

EIS No. 20110135, Draft EIS, USFS, SD, Pactola Project Area, Proposes to Implement Multiple Resource Management Actions, Mystic Ranger District, Black Hills National Forest, Pennington County, SD, Comment Period Ends: 06/20/2011, Contact: Katie Van Alstyne 605-343-1567.

EIS No. 20110136, Final EIS, USFS, NM, Rinconada Communication Site, Designation of Site to Serve Present and Future High Power Communication Needs and to Permit the Development of a Radio Transmission Facility within Site, Mt. Taylor Ranger District, Cibola National Forest, Cibola County, NM, Review Period Ends: 06/06/2011, Contact: Keith Baker 505-346-3870.

EIS No. 20110137, Draft EIS, USFS, CA, Pettijohn Late-Successional Reserve Habitat Improvement and Fuels Reduction Project, Implementation, Trinity River Management, Trinity Unit of the Shasta-Trinity National Recreation Area, Trinity County, CA, Comment Period Ends: 06/20/2011, Contact: Keli M. McElroy 530-226-2354.

EIS No. 20110138, Draft Supplement, USACE, 00,Fargo-Moorhead Metropolitan Area Flood Risk Management, To Documents the Analysis of Alternatives Developed to Reduce Flood Risk, Red River of the North Basin, ND and MN, Comment PeriodEnds: 06/20/2011, Contact: Aaron M. Snyder 651 -290-5489.

EIS No. 20110139, Final EIS, USFS, CO, White River National Forest Travel Management Plan, Updated Information for the Preferred Alternative, To Accommodate and Balance Transportation Needs, Implementation, Eagle, Garfield, Gunnison, Mesa, Moffat, Pitkin, Rio Blanco, Routt and Summit Counties, CO, Review Period Ends: 06/06/2011, Contact: Wendy Jo Haskins 970-945-3303.

Amended Notices

EIS No. 20110090, Draft EIS, USFS, MN,Federal Hardrock Mineral Prospecting Permits Project, To Conduct Mineral Exploration Drilling and Geophysical Activities on the Superior National Forest, Cook, Lake, St. Louis and Koochiching Counties, MIN, Comment Period Ends: 06/30/2011, Contact:Loretta Cartner 218-626-4382.

Revision to FR Notice Published 04/01/2011:Extending Comment Period from 05/16/2011 to 06/30/2011.

EIS No. 20110115, Final EIS, BLM, NV,Genesis Project, Proposes Expansion of Existing Mine Pits and Development of the Bluestar Ridge Open Pit Mine, Newmont Mining Corporation, Eureka County, NV, Review Period Ends: 05/16/2011, Contact: Kirk Laird 775-753-0272.

Revision to FR Notice Published 04/15/2011: Correction to the Review Period from 05/09/2011 to 05/16/2011.

EIS No. 20110117, Final EIS, BLM, CA,First Solar Desert Sunlight Solar Farm (DSSF) Project, Proposing To Develop a 550-Megawatt Photovoltaic Solar Project, Also Proposes to Facilitate the Construction and Operation of the Red Bluff Substation, California Desert Conservation Area (CDCA Plan, Riverside County, CA, Review Period Ends: 05/16/2011, Contact: Allison Shaffer 760-833-7104.

Revision to FR Notice Published 04/15/2011: Correction to the Review Period from 05/09/2011 to 05/16/2011.

EIS No. 20110118, Final EIS, DOI, WA,Cle Elum Dam Fish Passage Facilities and Fish Reintroduction Project, To Restore Connectivity, Biodiversity, and Natural Production of Anadromous Salmonids, Kittitas County, WA, Review Period Ends: 05/16/2011, Contact: Jim Taylor 208-378-5081.

Revision to FR Notice Published 04/15/2011: Correction to the Review Period from 05/08/2011 to 05/16/2011.

EIS No. 20110119, Final EIS, USFS, CA,Kings River Experimental Watershed Forest Health and Research Project, Implementation, Sierra National Forest, High Sierra Ranger District, Fresno County, CA, Review Period Ends:05/16/2011, Contact: Judi Tapia 559-297-0706 Ext. 4938.

Revision to FR Notice Published 04/15/2011: Correction to the Review Period from 05/09/2011 to 05/16/2011.

Dated: May 3, 2011.
Robert W. Hargrove,
Director, NEPA Compliance Division, Office of Federal Activities.

[FR Doc. 2011-11118 Filed 5-5-11; 8:45 am]

BILLING CODE 6560-50-P